DEPARTMENT OF STATE

[Public Notice 10204]

Determination Under Section 7070(c)(1) of the Department of State, Foreign Operations, and Related Programs Appropriations Act, 2017 Regarding the Central Government of Nicaragua

Pursuant to section 7070(c)(1) of the Department of State, Foreign Operations, and Related Programs Appropriations Act, 2017 (Div. J, Pub. L. 115-31), I hereby determine that the Government of Nicaragua has recognized the independence of, or has established diplomatic relations with, the Georgian territories of Abkhazia and Tskhinvali Region/South Ossetia.

This determination shall be published in the Federal Register and, along with the accompanying Memorandum of Justification, shall be reported to Congress.

Rex W. Tillerson,
Secretary of State.

[FR Doc. 2017-24963 Filed 11-16-17; 8:45 am]

BILLING CODE 4710-29-P